ENVIRONMENTAL PROTECTION AGENCY

[FRL-7445-7]

Peer Consultation Workshop on a Proposed Asbestos Cancer Risk Assessment

AGENCY: Environmental Protection Agency (EPA).

ACTION: Notice of public meetings.

SUMMARY: This notice announces a peer consultation workshop on a proposed asbestos cancer risk assessment methodology. The purpose of the workshop is to discuss the scientific merit of the proposed methodology developed for EPA by Dr. Wayne Berman and Dr. Kenny Crump. The proposed methodology distinguishes carcinogenic potency by asbestos fiber size and asbestos fiber type and advocates use of a new exposure index to characterize carcinogenic risk. Expert panelists will discuss many relevant technical issues at the workshop, and observers also will be invited to comment. A contractor will prepare a summary report documenting the discussions of the peer consultation workshop, and this report will be publicly available and become part of EPA's administrative record for IRIS. This meeting is being sponsored by EPA's Office of Solid Waste and Emergency Response and by EPA's Office of Research and Development.

DATES: The workshop will be held on February 25-27, 2003. The workshop hours will be from 9 a.m. to 5:30 p.m. on Tuesday, February 25; from 8:30 a.m. to 5 p.m. on Wednesday, February 26; and from 8 a.m. to 12 noon on Thursday, February 27. Observer comment periods are currently scheduled on Tuesday and Wednesday.

ADDRESSES: The peer consultation workshop will be held at the Westin St. Francis Hotel, 335 Powell Street, San Francisco, California. To attend the workshop as an observer, contact Eastern Research Group (ERG) either in writing, by electronic mail, or by telephone. ERG's contact information for this workshop is: Eastern Research Group, Conference Registration, 110 Hartwell Avenue, Lexington, MA 02421-3136; phone, 781-674-7374; fax: 781-674-2906; meetings@erg.com.

There is no charge for attending this workshop as an observer, but observers are encouraged to register early as the number of seats will be limited. Each registrant will receive a confirmation notice, a preliminary agenda, and a logistical fact sheet that contains directions to the meeting location. Copies of the proposed asbestos cancer risk assessment methodology can be obtained prior to the meeting from the EPA, OERR web page (www.epa.gov.superfund).

FOR FURTHER INFORMATION CONTACT: For general information, contact the RCRA/CERCLA Call Center at 800-424-9346 or TDD 800-553-7672 (hearing impaired). In the Washington, DC metropolitan area, call 703-412-9810 or TDD 703-412-3323. For more detailed technical information on this conference call Richard Troast (703-603-9019) Office of Emergency and Remedial Response, U.S. Environmental Protection Agency, 1200 Pennsylvania Avenue, NW., Washington, D.C. 20460-0002, Mail Code 5204G.

SUPPLEMENTARY INFORMATION: EPA's current assessment of asbestos toxicity is based primarily on an asbestos assessment completed in 1986, and EPA's assessment has not changed substantially since that time. The 1986 assessment considers all mineral forms of asbestos and all asbestos fiber sizes (i.e., all fibers longer than 5 micrometers) to be of equal carcinogenic potency. However, since 1986, there have been substantial improvements in asbestos measurement techniques and in the understanding of how asbestos exposure contributes to disease. To incorporate the knowledge gained over the last 17 years into the agency's toxicity assessment for asbestos, EPA oversaw the development of a revised methodology for conducting risk assessments of asbestos. The proposed risk assessment methodology distinguishes between fiber sizes and fiber types in estimating potential health risks related to asbestos exposure. EPA is convening this peer consultation workshop to seek input from a panel of experts on the scientific merit of the proposed methodology. The experts will include scientists with extensive expertise in relevant fields, such as biostatistics, fiber identification, inhalation toxicology, and carcinogenic mechanisms. The panelists will be asked to respond to several charge questions that address key issues in the proposed methodology, including interpretations of epidemiology and toxicology literature, the proposed exposure index, and general topics. The product of the peer consultation workshop will be a report that summarizes the panelists' and observers' comments, conclusions, and recommendations on the proposed methodology.

David Lopez,
Director, Region 3/8 Support Center, OERR.

[FR Doc. 03-2767 Filed 2-4-03; 8:45 am]

BILLING CODE 6560-50-P